SECURITIES AND EXCHANGE COMMISSION

[SEC File No. 270-035, OMB Control No. 3235-0029]

Proposed Collection; Comment Request; Extension: Rule 17f-2(c)

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) is soliciting comments on the existing collection of information provided for in Rule 17f-2(c) (17 CFR 240.17f-2(c)), under the Securities Exchange Act of 1934 (15 U.S.C. 78a et seq.). The Commission plans to submit this existing collection of information to the Office of Management and Budget (“OMB”) for extension and approval.

Rule 17f-2(c) allows persons required to be fingerprinted pursuant to Section 17(f)(2) of the Act to submit their fingerprints to the Attorney General of the United States or its designee (i.e., the Federal Bureau of Investigation (“FBI”)) through a registered national securities exchange or a registered national securities association (collectively, also known as “self-regulatory organizations” or “SROs”) pursuant to a fingerprint plan filed with, and declared effective by, the Commission. Fingerprint plans have been declared effective for the American, Boston, Chicago, New York, and Philadelphia stock exchanges and for the Financial Industry Regulatory Authority (“FINRA”) and the Chicago Board Options Exchange. Currently, FINRA accounts for the bulk of the fingerprint submissions.

It is estimated that 3,800 respondents submit approximately 278,455 sets of fingerprints (consisting of approximately 258,646 electronic sets and 19,809 hard copy sets) to SROs on an annual basis. The Commission estimates that it takes approximately 15 minutes to create and submit each fingerprint card. The total time burden is therefore estimated to be approximately 69,614 hours per year.

In addition, the SROs charge an estimated $31 fee for processing fingerprint cards submitted electronically, resulting in a total annual cost to all 3,800 respondents of approximately $8,018,026 per year. The SROs charge an estimated $41 fee for processing fingerprint cards submitted in hard copy, resulting in a total annual cost to all 3,800 respondents of approximately $812,169 per year. The combined cost to all respondents is thus approximately $8,830,195 per year.

Because the FBI will not accept fingerprint cards directly from submitting organizations, Commission approval of fingerprint plans from certain SROs is essential to carry out the Congressional goal to fingerprint securities industry personnel. Filing these plans for review assures users and their personnel that fingerprint cards will be handled responsibly and with due care for confidentiality.

Written comments are invited on: (a) whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted by August 5, 2024.

An agency may not conduct or sponsor, and a person is not required to respond to, a collection of information under the PRA unless it displays a currently valid OMB control number.

Please direct your written comments to: David Bottom, Director/Chief Information Officer, Securities and Exchange Commission, c/o John Pezzullo, 100 F Street NE, Washington, DC 20549, or send an email to: PRA_Mailbox@sec.gov.

Dated: June 3, 2024.
Sherry R. Haywood,
Assistant Secretary.

[FR Doc. 2024-12442 Filed 6-5-24; 8:45 am]

BILLING CODE 8011-01-P